DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 12, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on February 4, 2021.
Donald P. Burger,
Chief, General Approvals and Permits Branch.

Special Permits Data
Application No. | Applicant | Regulation(s) affected | Nature of the special permits thereof
21170-N | Westwind Helicopters, Inc | 172.101 Column (9B) | To authorize the transportation in commerce of certain hazardous materials by cargo-only aircraft in quantities that exceed the limitation in Column (9B) of the 172.101 Table. (mode 4).
21171-N | HDT Expeditionary Systems, Inc | 172.101 Column (9B) | To authorize the transportation in commerce of lithium batteries exceeding 35 kg by cargo-only aircraft. (mode 4).
21172-N | North Carolina Department of Agriculture & Consumer Services | 172.300, 173.196, 173.199, 173.201, 173.202, 173.203, 173.211, 173.212, 173.213 | To authorize one-time transportation by highway of certain biological and infectious substances, dilute pesticide solutions and small quantities of laboratory reference standard materials from two adjacent facilities to newly constructed facility. (mode 1).
21174-N | LG Energy Solution, Ltd | 172.101(j) | To authorize the transportation in commerce of lithium batteries exceeding 35 kg by cargo-only aircraft. (mode 4).
21178-N | Meggitt Safety Systems, Inc | 173.302(a)(1) | To authorize the manufacture, mark, sale, and use of non-DOT specification small, high pressure cylinders of welded construction similar to a DOT 3HT. (modes 1, 2, 3, 4).
21179-N | Airgas USA, LLC | 172.203(a), 172.301(c), 180.205(f), 180.205(g)(1), 180.209(a), 180.213(f)(2) | To authorize the transportation in commerce of DOT-3AA specification cylinders that are requalified every fifteen (15) years rather than every ten (10) years using 100% ultrasonic examination (UE) and are equipped with a Type 1 Residual Pressure Valve (RPV). (modes 1, 2, 3, 4, 5).
21180-N | Norse Flight, Inc | 172.101(j), 173.242, 173.243, 173.27 | To authorize the transportation in commerce of certain Class 3 hazardous materials by cargo-only aircraft in non-specification bulk packagings in quantities that exceed the authorized quantity limitations to remote areas of Alaska. (mode 4).
21181-N | Terracycle Regulated Waste LLC | 172.102(c), 172.200, 172.300, 172.400, 173.159a(c)(2), 173.185(c)(1)(iii), 173.185(c)(1)(iv), 173.185(c)(1)(v), 173.185(c)(3) | To authorize the manufacture, marking, sale and use of non-DOT specification fiberboard boxes for the transportation in commerce of certain batteries without shipping papers, marking of the proper shipping name and identification number or labeling, when transported for recycling or disposal. (modes 1, 2).
21182-N | LG Energy Solution, Ltd | 172.101(j) | To authorize the transportation in commerce of lithium batteries exceeding 35 kg by cargo-only aircraft. (mode 4).
21183-N | Lynden Air Cargo, LLC | 172.101 Column (9B), 172.204(c)(3), 173.27(b)(2), 173.27(b)(3), 175.30(a)(1) | To authorize the transportation in commerce of Division 1.1, 1.2, 1.3, and 1.4 explosives that are forbidden for transportation aboard aircraft or are in excess of the quantity limitations in Column 9B of the 172.101 HMT via cargo-only aircraft. (mode 4).
21184-N | Arkema Inc | 177.834(h) | To authorize the transportation in commerce of organic peroxide Type F material in UN IBCs without unloading the package from the vehicle prior to discharge. (mode 1).
21185-N | Hach Company | 172.102(b)(4), 173.36(a) | To authorization the transportation in commerce of certain PG II corrosive materials in UN 50H packagings. (mode 1).
21186-N | Cryogenic Industrial Solutions LLC | 172.203(a), 172.301(c), 180.211(c)(2)(i) | To authorize the repair of certain DOT 4L cylinders without requiring pressure testing. (modes 1, 2, 3, 4, 5).
21187-N | Enerdel, Inc | 172.101(j) | To authorize the transportation in commerce of lithium ion batteries exceeding 35 kg by cargo-only aircraft. (mode 4).
21189-N | Veolia ES Technical Solutions, LLC | 173.21(b), 173.51, 173.54(a), 173.56(b), 173.64, 173.65 | To authorize the one-time, one-way transportation in commerce of unapproved fireworks by highway. (mode 1).

[FR Doc. 2021-02767 Filed 2-9-21; 8:45 am]

BILLING CODE 4909-60-P